DEPARTMENT OF TRANSPORTATION

Federal Motor Carrier Safety Administration

[Docket No. FMCSA-2007-27510]

Agency Information Collection Activities; Request for Comment; Revision of an Information Collection: Driver Qualification Files

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval and invites public comment. The FMCSA requests approval to revise an ICR entitled, “Driver Qualification Files,” which is used to promote safety in the operations of motor carriers of property and passengers by promoting the hiring and retention of responsible drivers of commercial motor vehicles (CMVs).

DATES: Comments must be submitted on or before July 23, 2007.

ADDRESSES: You may submit comments identified by any of the following methods. Please identify your comments by the FMCSA Docket Number FMCSA-2007-27510.

• Web site: http://dms.dot.gov. Follow instructions for submitting comments to the Docket.

• Fax: 202-493-2251.

• Mail: U.S. Department of Transportation, Docket Management Facility, 400 Seventh Street, S.W., Plaza level, Washington, DC 20590-0001.

• Hand Delivery: Plaza level of the Nassif, Building, 400 Seventh Street, SW., Washington DC, between 9 a.m. and 5 p.m., e.t., Monday through Friday, except Federal holidays.

Docket: For access to the Docket Management System (DMS) to read background documents or comments received, go to http://dms.dot.gov at any time or to the plaza level of the Nassif Building, 400 Seventh Street, S.W., Washington DC, between 9 a.m. and 5 p.m., e.t., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION:

Background: The Motor Carrier Safety Act of 1984 (Pub. L. 98-554, Title II, 98 Stat 2834 (October 30, 1984)) requires the Secretary of Transportation (Secretary) to issue regulations pertaining to CMV safety. The regulations require motor carriers to maintain specified information in a driver qualification (DQ) file for each CMV driver it employs. The DQ file contains the minimum information necessary to document the qualifications of a driver to operate a CMV in interstate commerce and in intrastate commerce under compatible State laws and regulations. The authority to require carriers to maintain DQ files is 49 U.S.C. 504, 31133, 31136, and 31502, and 49 CFR 1.73 and 391.51.

This information is available to FMCSA investigators to substantiate the qualifications of each driver to operate a CMV in interstate commerce safely. A qualified driver means fewer crashes.

Title: Driver Qualification Files.

OMB Control Number: 2126-0004.

Type of Request: Revision of a currently approved information collection.

Respondents: Motor Carriers; and Drivers who are also Motor Carriers.

Estimated Number of Respondents: 7 million.

Estimated Time per Response: An average of 28 minutes.

Expiration Date: June 30, 2007.

Frequency of Response: Many of these obligations concern activities involving the hiring of a driver. They also include the obligations of all entities that have employed this applicant-driver in the past 3 years in a safety-sensitive position; usually these are other motor carriers. These obligations occur irregularly because they are associated with the variable needs of motor carriers for new drivers. In addition, this collection imposes obligations that pertain to motor carriers and their employee-drivers. Most of these obligations must be met annually.

Estimated Total Annual Burden: 3,254,580 hours. FMCSA arrives at this estimate through calculation of the time involved with each of the following requirements of the driver qualification regulations:

(A) General Requirements for the Hiring of a Driver by a Motor Carrier are as follows:

(1) Application for employment of the applicant-driver; and

(2) Driving record of the applicant-driver.

(B) Safety Performance History of the Applicant-Driver involves the following:

(1) Investigation by the hiring motor carrier;

(2) Former employer submitting to the hiring motor carrier a copy of its safety performance history on the applicant-driver;

(3) Request of the applicant-driver for a copy of the history; and

(4) Rebuttal of the history by the applicant-driver.

(C) Other Driver Qualification Requirements are as follows:

(1) Employee-driver's certificate of violations;

(2) Motor carrier's review of employee-driver's driving record(s); and

(3) Drivers for more than one motor carrier.

The medical certificate is also required to be included in the Driver's Qualification File. However, the Agency has a separate OMB approval for the medical certificate component of the Driver Qualification Files.

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Issued on: May 17, 2007.
D. Marlene Thomas,
Associate Administrator for Administration.

[FR Doc. E7-9947 Filed 5-22-07; 8:45 am]

BILLING CODE 4910-EX-P